DEPARTMENT OF TRANSPORTATION

Federal Highway Administration

Environmental Impact Statement: Marion County, West Virginia

AGENCY: Federal Highway Administration (FHWA), DOT.

ACTION: Revised notice of intent.

SUMMARY: The FHWA is issuing this notice to advise the public that it is revising the original notice of intent published in the Federal Register on August 3, 1994. The original notice stated that an environmental impact statement (EIS) would be prepared for a proposed new expressway in Fairmont, West Virginia (Riverside Expressway). The proposed project was to include an interchange with Interstate 79, crossing either the Monongahela River or the Tygart Valley and West fork Rivers, utilizing an existing railroad right-of-way, ending at U.S. 19 south of Rivesville, West Virginia. After significant public involvement and analysis of potential project impacts and costs, the scope of the project has been redefined and the project termini altered. The redefined project, referred to locally as the Fairmont Gateway Connector, is being developed with environmental assessment in lieu of an EIS.

FOR FURTHER INFORMATION CONTACT: Henry E. Compton, Division of Environmental Coordinator, Federal Highway Administration, West Virginia Division, Geary Plaza, Suite 200, 700 Washington Street East, Charleston, West Virginia, 25301, Telephone (304) 347-5268.

SUPPLEMENTARY INFORMATION: In lieu of preparation of an environmental impact statement for the Riverside Expressway Project, the FHWA, in cooperation with the West Virginia Division of Highways (WVDOH), will prepare an environmental assessment for the proposed Fairmont Gateway Connector Project. The project is proposed to relieve traffic congestion, improve access to downtown Fairmont, increase safety, stimulate economic development and provide direct access to Interstate 79. The western terminus of the study area is the west end of the Jefferson Street Bridge. The eastern terminus is Interstate 79. Alternates under consideration include (1) taking no action; (2) improving the existing highway system through the construction of a five lane, controlled access facility and interstate interchange. Build alternatives vary in length from 1.4 to 1.7 miles.

Letters describing the proposed action and soliciting comments will be sent to appropriate federal, state, and local agencies, and to private organizations and citizens who have expressed or are known to have an interest in this proposal. A public hearing will be held in Fairmont following approval of the environmental assessment. Public notice will be given of the time and place of the meeting. An environmental assessment will be available for public and agency review and comment prior to the public meeting.

To ensure the full range of issues related to this proposed action are addressed and all significant issues identified, comments and suggestions are invited. Comments or questions concerning this proposed action or the modification of environmental document type should be directed to the FHWA at the address provided above.

(Catalog of Federal Domestic Assistance Program Number 20.205, Highway Planning and Construction. The regulations implementing Executive Order 12372 regarding intergovernmental consultation on Federal programs and activities apply to this program.)

Issued on: June 22, 2001.
Henry E. Compton,
Environmental Coordinator, Charleston, West Virginia.

[FR Doc. 01-16276 Filed 6-27-01; 8:45 am]

BILLING CODE 4910-22-M